DEPARTMENT OF THE INTERIOR

Bureau of Land Management

[CO-921-07-1320-EL; COC-70615]

Notice of Public Meeting, To Receive Comments on an Environmental Analysis, Finding of No Significant Impact, Maximum Economic Recovery Report, and Fair Market Value for Coal Lease Application COC-70615

AGENCY: Bureau of Land Management, Interior.

ACTION: Cancellation of scheduled Public Meeting.

SUMMARY: The public meeting for Wednesday, July 8, 2009, at 7 p.m. is hereby cancelled. The meeting will be re-scheduled at a future date; which has not been determined.

FOR FURTHER INFORMATION CONTACT: Kurt Barton at BLM Colorado State Office, 2850 Youngfield Street, Lakewood, Colorado 80215, or by telephone 303-239-3714.

Dated: June 25, 2009.
Kurt M. Barton,
Solid Minerals LLE, Division of Energy, Lands and Minerals.

[FR Doc. E9-15512 Filed 6-30-09; 8:45 am]

BILLING CODE 4310-JB-P